DEPARTMENT OF HEALTH AND HUMAN SERVICES

Administration for Children and Families

Submission for OMB Review; Comment Request

Proposed Projects

Title: Office of Child Support Enforcement Child Support Portal Registration.

OMB No.: 0970-0370.

Description: The federal Office of Child Support Enforcement (OCSE), Division of Federal Systems maintains the Child Support Portal, which contains a variety of child support applications to help enforce state child support cases. To securely access child support applications, authorized users must register to use the Child Support Portal. Information collected from the registration form is used to authenticate and authorize the users.

The OCSE Child Support Portal Registration information collection activities are authorized by 42 U.S.C. 653(m)(2), which requires the Secretary to establish and implement safeguards to restrict access to confidential information in the Federal Parent Locator Service to authorized persons and to restrict use of such information to authorized purposes.

Respondents: Employers, Financial Institutions, Insurers, Tribal, and State Agencies.

Annual Burden Estimates
Instrument | Number of respondents | Number of responses per respondent | Average burden hours per response | Total burden hours
Registration Screens | 299 | 1 | 0.15 | 44.85

Estimated Total Annual Burden Hours: 45.

Additional Information

Copies of the proposed collection may be obtained by writing to The Administration for Children and Families, Office of Information Services, 370 L'Enfant Promenade SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2015-20121 Filed 8-13-15; 8:45 am]

BILLING CODE 4184-01-P